DEPARTMENT OF THE INTERIOR

Bureau of Land Management

(WY-921-5440-K029-EU; WYW 150541)

Realty Action; Conveyance of Public Lands; Wyoming

AGENCY: Bureau of Land Management, Interior.

ACTION: Notice of realty action; airport conveyance to the Joint Powers Big Piney-Marbleton Airport Board.

SUMMARY: The following public lands in Sublette County have been found suitable for conveyance to the Joint Powers Big Piney-Marbleton Airport Board for airport purposes under the Act of May 24, 1928, as amended, and Section 516 of the Airport and Airway Improvement Act of 1982.

Sixth Principal Meridian, Sublette County, Wyoming

T. 30 N., R. 111 W.,

Sec. 7, lots 3, 4, NE¼SW¼;

Sec. 8, SE¼SW¼, SW¼SE¼;

Sec. 17, NW¼NE¼, N½NW¼, N½SW¼NW¼;

Sec. 18, lot 1, NE¼NE¼;

Sec. 20, S½NW¼.

The area described contains 499.5 acres.

FOR FURTHER INFORMATION CONTACT: Tamara Gertsch, Wyoming State Office, Bureau of Land Management, P.O. Box 1828, Cheyenne, Wyoming 82003, 307-775-6115.

SUPPLEMENTARY INFORMATION: Conveyance of the lands is consistent with applicable Federal and county land use plans and will help meet the needs of Sublette County residents. Under this conveyance, improvements will be made at the Big Piney-Marbleton Municipal Airport for safety purposes.

The conveyance will contain reservations to the United States for ditches, canals and all minerals. Additionally the conveyance will be subject to rights of record including a right-of-way, WYW 7389 to Sublette County for road purposes; a right-of-way, WYW 146644 to the Federal Highway Administration; three rights-of-way, WYW 36810, WYW 87760, and WYW 6316, issued to Pacificorp for power transmission purposes; and two rights-of-way, WYW 76039, and 090925, issued to Century Telephone for communication purposes.

Specific covenants required by the Federal Aviation Administration will also be included in the conveyance and are available by contacting the office listed below.

The conveyance is consistent with the Pinedale Resource Management Plan. The land is not required for any other Federal purpose.

Upon publication of this notice in the Federal Register, the above described land will be segregated from all forms of appropriation under the public land laws, including the general mining laws, except applications for airport purposes and leasing under the mineral leasing laws.

For a period of 45 days from the date of publication of this notice in the Federal Register, interested parties may submit comments to the Bureau of Land Management, Branch of Minerals & Lands Authorizations, Wyoming State Office, P.O. Box 1828, Cheyenne, Wyoming 82003. Any adverse comments will be evaluated by the State Director, who may sustain, vacate, or modify this realty action. In the absence of any objection, this proposed realty action will become final.

Dated: May 18, 2000.
Tamara J. Gertsch,
Realty Specialist.

[FR Doc. 00-13030 Filed 5-23-00; 8:45 am]

BILLING CODE 4310-22-P